DEPARTMENT OF COMMERCE

National Oceanic and Atmospheric Administration

50 CFR Part 300

[Docket No. 011206293-1293-01; I.D. 101501A]

RIN 0648-AK17

Pacific Halibut Fisheries; Guideline Harvest Levels for the Guided Recreational Halibut Fishery

AGENCY: National Marine Fisheries Service (NMFS), National Oceanic and Atmospheric Administration (NOAA), Commerce.

ACTION: Proposed rule; request for comments.

SUMMARY: NMFS proposes regulations to implement a guideline harvest level (GHL) and a system of harvest reduction measures for managing the harvest of Pacific halibut in the guided recreational fishery in International Pacific Halibut Commission (Commission) areas 2C and 3A off Alaska. The GHL would establish an estimated amount of halibut harvests that may be taken annually in the guided recreational fishery. The system of harvest reduction measures would provide for a number of management measures to take effect incrementally in the event that harvests exceed the GHL. This action is necessary to allow NMFS to manage more comprehensively the Pacific halibut stocks in waters off Alaska. It is intended to further the management and conservation goals of the Northern Pacific Halibut Act of 1982 (Halibut Act).

DATES: Comments on the proposed rule must be received by February 27, 2002.

ADDRESSES: Comments must be sent to Sue Salveson, Assistant Regional Administrator for Sustainable Fisheries, Alaska Region, NMFS, P.O. Box 21668, Juneau, AK 99802, Attn: Lori Gravel, or delivered to the Federal Building, 709 West 9th Street, Juneau, AK. Copies of the Environmental Assessment/Regulatory Impact Review/Initial Regulatory Flexibility Analysis (EA/RIR/IRFA) prepared for this action are available from the North Pacific Fishery Management Council at 605 West 4th Avenue, Suite 306, Anchorage, AK 99501-2252.

SUPPLEMENTARY INFORMATION:

Background

The Commission promulgates regulations governing the Pacific halibut fishery under the Convention between the United States and Canada for the Preservation of the Halibut Fishery of the North Pacific Ocean and Bering Sea (Convention), signed at Ottawa, Ontario, on March 2, 1953, as amended by a Protocol Amending the Convention (signed at Washington, DC, on March 29, 1979). The Commission’s regulations are subject to approval by the Secretary of State with concurrence of the Secretary of Commerce (Secretary) (16 U.S.C. 773b). Additional management measures may be developed by the North Pacific Fishery Management Council (Council) to allocate harvesting privileges among U.S. fishermen. The Halibut Act provides NMFS with authority to implement such allocation measures through regulatory amendments approved by the Secretary in consultation with the Council. In addition to the IPHC regulations, the commercial halibut fishery off Alaska is managed under the halibut Individual Fishing Quota (IFQ) Program implemented in 1995.

Each year the Commission staff assesses the abundance and potential yield of Pacific halibut using all available data from the commercial fishery and scientific surveys. Harvest limits for 10 regulatory areas are determined by fitting a detailed population model to the data from each area. A biological target level for total removals in a given area is then calculated by multiplying a fixed harvest rate, presently 20 percent, to the estimate of exploitable biomass. This target level is called the “constant exploitation yield” (CEY) for that area in the coming year. Each CEY represents the total allowable harvest (in net pounds) for that area, which cannot be exceeded. The Commission then estimates the sport and personal use, subsistence harvests, wastage, and bycatch mortalities for each area. These are subtracted from the CEY and the remainder may be set as the catch quota for each area’s directed commercial fixed gear fishery. Allocations to the guided recreational fishery are thus unrestricted within the CEY and represent an open-ended allocation to the guided recreational fishery from quota available to the commercial halibut fishery. Hence, as the guided recreational fishery expands, its harvests reduce the pounds available to be fished in the commercial halibut fishery and, subsequently, the value of quota shares (QS) in the IFQ Program.

The Council has discussed the expansion of the halibut guided recreational fleet since 1993, when the rapid increase in guided recreational vessel effort in some small Alaskan communities, such as Sitka, gave rise to concerns about localized depletion of the halibut resource and the potential reallocation of greater percentages of the CEY from the IFQ fishery to the guided recreational vessel fishery. In 1995, the Council developed the following six-point problem statement to direct its analysis of issues attending the guided recreational halibut fishery:

The recent expansion of the halibut charter industry may make achievement of Magnuson-Stevens Act National Standards more difficult. Of concern is the Council's ability to maintain the stability, economic viability, and diversity of the halibut industry, the quality of the recreational experience, the access of subsistence users, and the socioeconomic well-being of the coastal communities dependent on the halibut resource. Specifically, the Council notes the following areas of concern with respect to the recent growth of halibut charter operations:

1. Pressure by charter operations may be contributing to localized depletion in several areas.

2. The recent growth of charter operations may be contributing to overcrowding of productive grounds and declining harvests for historic sport and subsistence fishermen in some areas.

3. As there is currently no limit on the annual harvest of halibut by charter operations, an open-ended reallocation from the commercial fishery to the charter industry is occurring. This reallocation may increase if the projected growth of the charter industry occurs. The economic and social impact on the commercial fleet of this open-ended reallocation may be substantial and could be magnified by the IFQ program.

4. In some areas, community stability may be affected as traditional sport, subsistence, and commercial fishermen are displaced by charter operators. The uncertainty associated with the present situation and the conflicts that are occurring between the various user groups may also be impacting community stability.

5. Information is lacking on the socioeconomic composition of the current charter industry. Information is needed that tracks: (1) the effort and harvest of individual charter operations; and (2) changes in business patterns.

6. The need for reliable harvest data will increase as the magnitude of harvest expands in the charter sector.

In September 1997, the Council took final action on two management actions affecting the halibut guided recreational fishery, culminating more than 4 years of discussion, debate, public testimony, and analysis. First, the Council approved recording and reporting requirements for the halibut guided recreational fishery. To implement this requirement, the Alaska Department of Fish and Game (ADF&G) Sport Fish Division, under the authority of the Alaska Board of Fisheries, instituted a Saltwater Charter Vessel Logbook (Logbook) in 1998. Information collected under this program provides fishery scientists and managers with the number of fish landed and/or released, the date and primary location of fishing, the hours and number of lines fished, the number of clients and crew fishing, the ownership of the vessel, and the identity of the vessel operator.

The logbook collects such information as the Council and ADF&G determined at the time to be essential for managing the guided recreational fishery harvests of halibut. It complements additional sportfish data collected by the State of Alaska (State) through the Statewide Harvest Survey (Harvest Survey), conducted annually since 1977, and the on-site (creel and catch sampling) surveys conducted separately by ADF&G in Southeast and Southcentral Alaska.

For the second management action in September 1997, the Council recommended GHLs for the halibut guided recreational fishery in Commission regulatory areas 2C and 3A. The GHLs were based on the guided recreational sector receiving 125 percent of its 1995 harvest. This amount was equivalent to 12.76 percent and 15.61 percent of the combined commercial/guided recreational halibut quota in areas 2C and 3A, respectively. The Council stated its intent that guided recreational harvests in excess of the GHL would not lead to a mid-season closure of the fishery, but instead would trigger other management measures to take effect in years following attainment of the GHL. The overall intent was to maintain a stable guided recreational season of historical length, using area-specific harvest reduction measures. If end-of-season harvest data indicated that the guided recreational sector likely would have reached or exceeded its area-specific GHL in the following season, NMFS would implement measures to slow down guided recreational halibut harvest. Given the 1-year lag between the end of the fishing season and the availability of that year’s harvest data, management measures in response to the guided recreational fleet’s meeting or exceeding the GHL would take up to 2 years to become effective. However, the Council did not recommend specific management measures to be implemented by NMFS if the GHL were reached.

In December 1997, the NMFS Alaska Regional Administrator informed the Council that the GHL could not be published as a regulation without specific management measures to give it effect. Further, because the Council had not recommended specific management measures by which to limit harvests if the GHL were reached, no formal approval decision by the Secretary was required for the Council’s proposed GHL policy, and it was not forwarded for review.

After being notified that its 1997 GHL policy recommendation would not be submitted for review, the Council initiated a public process to identify GHL management measures. The Council formed a GHL Committee to recommend alternative management measures for analysis that would constrain guided recreational harvests below the GHL. In April 1999, the Council identified the following for analysis: (1) a suite of GHL management measure alternatives; (2) alternatives that would change the GHL as approved in 1997; and (3) area-wide and local area management plan moratorium options under all alternatives. Several factors influenced the Council to recommend a program in which the implementation of harvest reduction measures would be triggered in fishing years subsequent to a year in which the GHL was achieved or exceeded. Among these factors were (1) the unavailability of reliable in-season catch monitoring for the halibut guided recreational fishery; (2) the impracticality of making in-season adjustments to the commercial IFQ fishery; and (3) the undesirability of shortening the current guided recreational fishing season, which the Commission’s annual halibut regulations have typically set between February 1 and December 31.

In February 2000, after 7 years of discussing the halibut guided recreational fishery, the Council took final action and voted 10-1 to recommend a redefined halibut guided recreational GHL and a system of management measures, the essential design of which was forged by representatives of both the commercial halibut fishery and halibut guided recreational fleet. As part of this action, the Council also recommended expediting review of a proposal to integrate the halibut guided recreational fisheries in Commission Regulatory Areas 2C and 3A into the existing commercial IFQ Program. The Council reviewed the analysis for that proposal in February, 2001, and, at its meeting the following April, it took final action to recommend implementation of halibut guided recreational IFQs. If approved by the Secretary, a halibut guided recreational IFQ program would supersede the management of the fishery under the GHL proposed in this action.

The GHL

The GHL establishes a pre-season estimate of acceptable annual harvests for the halibut fishery in Commission areas 2C and 3A. To allow for limited growth of the guided recreational fleet while approximating historical harvest levels, the GHLs would be based on 125 percent of the average of 1995-99 guided recreational harvest estimates as reported by the ADF&G’s Harvest Survey. By weight, the GHLs would equate to 13.05 percent of the combined guided recreational and commercial quota in area 2C or 1,432,000 lb (649.5 mt) net weight; and 14.11 percent of the combined guided recreational and commercial quota in area 3A or 3,650,000 lb (1,655.6 mt) net weight.

The GHL would be responsive to annual reductions in stock abundance. In the event of a reduction in either area’s halibut stocks, as determined by the Commission, the area GHL would be reduced incrementally in proportion to the stock reduction. The reductions in the GHL would be made using percentages based on the average harvests from 1999 to 2000, as a reflection of recent harvest levels.

For example, should the halibut stock in area 2C fall 15 percent or more below its 1999-2000 average, the area 2C GHL would be reduced by 15 percent, from 1,432,000 lb (649.5 mt) to 1,217,200 lb (552.1 mt). Should the area stock abundance fall a further 10 percent or more, the GHL would also be reduced by an additional 10 percent from 1,217,200 lb (552.1 mt) to 1,095,480 lb (496.9 mt), and so on with further 10 percent reductions in abundance. As abundance returns to its pre-reduction level (the 1999-2000 average), the GHL would be increased by commensurate incremental percentage points to its initial level of 125 percent of the average of 1995-99 guided recreational harvest estimates.

In the case of increases in stock abundance, the GHL would never exceed its initial level of 1,432,000 lb (649.5 mt) in Area 2C and 3,650,000 lb (1,655.6 mt) in Area 3A. Setting the GHL at 125 percent of the 1995-1999 harvest estimates would allow for limited growth of the guided recreational fishery, but would effectively limit further growth at this level. NMFS invites public comment on this feature of the proposed action.

Harvest reduction measures

The GHL will not institute in-season actions to reduce guided recreational harvests. Instead, measures to reduce guided recreational harvests would be implemented by notification in following years. NMFS specifically requests that the public provide comments on this method of implementing management measures to reduce halibut harvest. The ADF&G typically publishes data on a given year’s halibut guided recreational harvests from the ADF&G’s Logbook program and Harvest Survey, respectively, in February and August of the following year. Given this delay between a given year’s harvests and the issuance of logbook and harvest survey reports of the data from those harvests, measures to reduce guided recreational harvests would also be delayed to ensure the accuracy of data indicating that harvests exceeded the GHL.

NMFS would reduce harvests incrementally, based on the percentage at which the previous year’s harvests exceeded the GHL. For example, a reduction in the daily “bag limit” or number of halibut a sport angler may harvest each day would be triggered and implemented only as the final tool when the GHL is exceeded by greater than 50 percent. This measure, like the others for harvests over 20 percent, would be implemented in the second year following the year of overharvest. For purposes of this limitation, daily bag limit means the amount of halibut that may be harvested per calendar day, or as specifically defined for waters in and off Alaska, the period from 0001 hours, A.l.t., until the following 2400 hours, A.l.t. (See 50 CFR 679.2 Definitions, Daily reporting period or day.)

In this system of harvest reduction measures, “harvest” means the catching and retaining of fish and, in the context of prohibiting harvests by a vessel’s skipper and crew, is intended only to preclude retention by a vessel’s skipper and crew and not to prevent a vessel’s crew from assisting clients in fishing for and catching halibut.

The system recommended by the Council is as follows.

Area 2C Management Tools
When annual harvests in the halibut guided recreational fishery exceed GHL by: | Harvests will be restricted in following years by implementation of a restriction that:
Less than 10 percent | No guided recreational vessel may complete more than one fishing trip in a single 24-hour period.
10-15 percent | No guided recreational vessel may complete more than one fishing trip in a single 24-hour period; No operator or crewmember aboard a guided recreational vessel may retain halibut.
16-20 percent | No guided recreational vessel may complete more than one fishing trip in a single 24-hour period; No operator or crewmember aboard a guided recreational vessel may retain halibut; No person may retain more than seven halibut harvested on a guided recreational vessel during the calendar year.
21-30 percent | No guided recreational vessel may complete more than one fishing trip in a single 24-hour period; No operator or crewmember aboard a guided recreational vessel may retain halibut; No person may retain more than six halibut harvested on a guided recreational vessel during the calendar year.
31-40 percent | No guided recreational vessel may complete more than one fishing trip in a single 24-hour period; No operator or crewmember aboard a guided recreational vessel may retain halibut; No person may retain more than five halibut harvested on a guided recreational vessel during the calendar year.
41-50 percent | No guided recreational vessel may complete more than one fishing trip in a single 24-hour period; No operator or crewmember aboard a guided recreational vessel may retain halibut; No person may retain more than four halibut harvested on a guided recreational vessel during the calendar year.
More than 50 percent | No guided recreational vessel may complete more than one fishing trip in a single 24-hour period; No operator or crewmember aboard a guided recreational vessel may retain halibut; No person may retain more than four halibut harvested on a guided recreational vessel during the calendar year; Between the dates of August 1 and August 31, no person may retain more than 1 halibut per day harvested aboard a guided recreational vessel.

Area 3A Management Tools
When annual harvests in the halibut guided recreational fishery exceed GHL by: | Harvests will be restricted in following years by implementation of a restriction that:
Less than 10 percent | No guided recreational vessel may complete more than one fishing trip in a single 24-hour period.
10-20 percent | No guided recreational vessel may complete more than one fishing trip in a single 24-hour period; No operator or crewmember aboard a guided recreational vessel may retain halibut.
21-30 percent | No guided recreational vessel may complete more than one fishing trip in a single 24-hour period; No operator or crewmember aboard a guided recreational vessel may retain halibut; No person may retain more than seven halibut harvested on a guided recreational vessel during the calendar year.
31-40 percent | No guided recreational vessel may complete more than one fishing trip in a single 24-hour period; No operator or crewmember aboard a guided recreational vessel may retain halibut; No person may retain more than six halibut harvested on a guided recreational vessel during the calendar year.
41-50 percent | No guided recreational vessel may complete more than one fishing trip in a single 24-hour period; No operator or crewmember aboard a guided recreational vessel may retain halibut; No person may retain more than five halibut harvested on a guided recreational vessel during the calendar year.
More than 50 percent | No guided recreational vessel may complete more than one fishing trip in a single 24-hour period; No operator or crewmember aboard a guided recreational vessel may retain halibut; No person may retain more than four halibut harvested on a guided recreational vessel during the calendar year; Between the dates of August 1 and August 31, no person may retain more than 1 halibut per day harvested aboard a guided recreational vessel.

How the System of Harvest Reduction Measures Would Work

No guided recreational halibut harvest reduction measures would be implemented if the total guided recreational harvest in the area (2C or 3A) remains at or below the GHL for that area. However, if the GHL is exceeded in a given year, appropriate harvest reduction measures would be imposed in following years to reduce harvests incrementally by the percentage at which the previous year’s harvests exceeded the GHL. For example, if harvests in Area 2C in 2002 exceeded the GHL by 15 percent, halibut guided recreational harvests in that area would be restricted in 2003 by prohibiting harvests by skipper and crew and by prohibiting a guided recreational vessel from concluding more than one fishing trip during which halibut are harvested during a single 24-hour period.

In years when harvests exceed the GHL by an amount greater than 20 percent of the GHL, harvest reduction measures would be implemented in two phases. First, measures designed to achieve a reduction of up to 20 percent in guided recreational harvests would be implemented for the fishing year following the overage. Second, measures designed to achieve greater than 20 percent reductions in harvest (e.g., annual limits and a one-fish bag limit in August) would be implemented 1 year later to allow for verification from the Harvest Survey of the percentage by which guided recreational harvests exceeded the GHL. For example, if guided recreational harvests in 3A were exceeded in 2002 by 35 percent, in 2003, harvests would be restrained by prohibiting harvests by skipper and crew and by prohibiting a guided recreational vessel from concluding more than one fishing trip during which halibut are harvested during a single 24-hour period. In the following year, 2004, once NMFS has data verifying that the GHL was exceeded by 35 percent, harvests would be further restrained by imposing an annual limit of six fish on each individual angler fishing from a guided recreational vessel.

The reason for the delay in implementing the harvest reduction measures is to not over-react to an overharvest until such time that NMFS has all data verifying the extent of overharvest, and so that, if necessary, either NMFS can institute greater or lesser reduction measures or the Council can recommend that measures currently in place be removed.

Once NMFS has preliminary data indicating that the level of harvests from a previous season exceeded the GHL, the appropriate harvest reduction measures would be triggered [to be in effect] for the following season. The Administrator, Alaska Region, NMFS (Regional Administrator) would announce such measures by notification in the Federal Register prior to the start of the annual sport halibut fishing season.

The proposed system of harvest reduction measures was developed by the Council using its best estimates of which measures would have the least effect and which the greatest effect. At present, no single management measure can be accurately projected as reducing harvests by a certain percentage. For this reason, the measures more likely to reduce harvests substantially are reserved for curtailing harvests that greatly exceed the GHL. The experience of managing the guided recreational fishery under this system would likely give the Council and NMFS more certain data in the future by which to determine the extent of each particular management measure’s ability to reduce harvests. Therefore, at the end of a sport halibut fishing season during which harvest reduction measures were in effect, the Council would review such measures to evaluate their efficacy in preventing further harvests in excess of the GHL or the appropriateness of lifting such management measures. This review accomplishes two goals: the first is to evaluate whether the overharvest is likely to continue in the subsequent years and the second is to evaluate whether any additional refinements are needed for any restrictions currently in place. If the Council, in consultation with NMFS, determines that restrictions should be lifted or refined, NMFS will undertake rulemaking to implement them, so long as the agency approves of such possible changes. Rulemaking will be undertaken in accordance with the requirements of applicable law.

Implementation Issues

NMFS is working with the Council and the ADF&G to resolve a number of recordkeeping and reporting issues essential to NMFS’ ability to monitor compliance with the proposed harvest reduction measures. As noted above, in 1998 the ADF&G instituted its saltwater charter logbook program in response to the Council’s initial recommendations for managing the halibut guided recreational fishery. The logbook provides one means by which NMFS may monitor compliance with harvest reduction measures in the field during the fishing season. However, NMFS’ access to data derived from the logbook is limited by Alaska Statute 16.05.815 of the State’s fish and game regulations, which requires that information provided to the State in compliance with its regulations be kept confidential and may not be released. This confidentiality provision prevents NMFS from accessing logbook data for enforcement purposes once logbooks have been submitted to the State and may prevent NMFS from accessing the information for such purposes prior to its submission to the State.

Moreover, the information collected by the logbook would not alone be sufficient to monitor compliance with the harvest reduction measures. NMFS would require additional information on times and dates of the end of fishing trips, as well as information identifying each individual angler and his or her total harvests aboard guided recreational vessels.

The ADF&G sportfishing license currently requires an angler’s up-to-date information on catches of species that are managed under annual limits. Adequate monitoring of an annual limit on halibut harvests would require that halibut harvested aboard guided recreational vessels be added to this list. The ADF&G sportfishing license would then provide an additional means of monitoring compliance with harvest reduction measures in the field. NMFS may also require post-season data collection on annual limits for enforcement purposes, in which case an additional collection-of-information requirement would need to be put in place either as part of the logbook or by an alternative means.

Adequate recordkeeping and reporting requirements and monitoring capabilities are imperative to the enforceability and, hence, the success of the proposed GHL program in managing harvests by the guided recreational fishery. As explained above, NMFS is working with the ADF&G and State to resolve these recordkeeping and reporting issues. The ability of NMFS to adequately monitor and enforce a program is an important consideration when NMFS decides whether to approve recommendations of the Council.

Currently, there are no new collections of information associated with this proposed rule. As detailed above, NMFS is working with the State of Alaska to obtain the information necessary to enforce this rule. Nevertheless, if such efforts fail or necessary information if otherwise unavailable, NMFS may implement future collections of information in accordance with applicable law if necessary to monitor compliance.

Classification

The Council prepared an IRFA for this action that assesses potential impacts on small entities for purposes of the Regulatory Flexibility Act (RFA). According to 1999 ADF&G logbook data, 397 guided recreational businesses operated in Area 2C, and 434 in Area 3A. All 831 guided recreational businesses could be considered small entities for purposes of the RFA. The proposed action also would impact an estimated 4,000 permit holders and 860 registered commercial halibut buyers participating in the commercial halibut IFQ Program, many of which are small entities. Also classified as small entities under the RFA are the many small government jurisdictions with fewer than 50,000 residents that are home to commercial halibut fishermen and guided recreational vessel owners and operators.

The Council identified the following issues in its discussion of the expansion of the halibut guided recreational fleet: (1) possible localized depletion of halibut because of fishing pressure by charter operations; (2) overcrowding of productive grounds and declining harvests for historic sport and subsistence fishermen in some areas; (3) economic and social impact on the commercial fleet by an open-ended reallocation from the commercial fishery to the charter industry, if projected growth of the charter industry occurs; and (4) effect on community stability as traditional sport, substance, and commercial fishermen are displaced by charter operators.

The Council also considered a moratorium on the further entry in the charter fisheries. The moratorium alternatives and options included years of participation, owners versus vessels, evidence of participation, vessel upgrades, transfers, and duration for review. However, the Council rejected the moratorium because, based on the number of qualifying vessels under various options, it was unlikely that a moratorium would constrain the charter harvest. In addition to the moratorium and the no action alternative, the Council considered alternative GHL levels.

The GHL alternatives reviewed by the Council represent trade-offs between the commercial and guided recreational fisheries. The GHL is designed to limit the amount of halibut that may be taken in the guided recreational fishery. The Council also considered not regulating harvests in the guided recreational fishery. However, the Council rejected this as failure to regulate could erode the harvest share available to commercial halibut fishermen, many of whom are also small entities.

The proposed GHL, which allows the charter industry to grow, represents a balance between the status quo’s impact on small commercial entities and the impact of more restrictive alternatives on small recreational entities.

As this is a new rule applicable to a previously unregulated group, there are no duplicative or overlapping rules associated with this proposed rule.

This action does not contain federalism implications, as that term is defined in E.O. 13132. This proposed rule has been determined to be not significant for the purposes of Executive Order 12866.

List of Subjects in 50 CFR Part 300

Fisheries, Fishing, Reporting and recordkeeping requirements, Treaties.

Dated: January 19, 2002.
William T. Hogarth,
Assistant Administrator for Fisheries, National Marine Fisheries Service.

For the reasons set out in the preamble, 50 CFR Part 300 is proposed to be amended as follows:

PART 300—INTERNATIONAL FISHERIES REGULATIONS

1. The authority citation for 50 CFR part 300 continues to read as follows:

Authority: 16 U.S.C. 773 et seq.

2. Section 300.61 is amended by adding “Guided recreational vessel”, “Guideline harvest level”, and “Harvest” in alphabetical order as follows:

§ 300.61 Definitions.

* * * * *

Guided recreational vessel means a vessel and operator used for hire by a recreational angler for harvesting halibut.

Guideline harvest level means a level of allowable fish harvest by the recreational halibut guided recreational vessel fishery.

Harvest means the catching and retaining of fish.

* * * * *

3. In § 300.63, paragraph (f) is added to read as follows:

§ 300.63 Catch sharing plans, local area management plans, and domestic management measures.

* * * * *

(f) Guideline harvest levels. (1) The annual guideline harvest levels for areas 2C and 3A are as follows.

(i) Area 2C. (A) The guideline harvest level for area 2C will be 1,432,000 lb (649.5 mt).

(B) In years of low abundance of halibut stocks in area 2C, as determined by the Commission, the guideline harvest level will be reduced:

(1) By 15 percent when the halibut stock abundance falls at least 15 percent below its 1999-2000 average; and

(2) After the initial 15 percent reduction, by further 10 percent increments as stock abundance declines by additional 10 percent increments below its 1999-2000 average.

(C) Area 2C harvest reduction measures. The appropriate annual harvest reduction measures for area 2C, identified in the table below, will take effect pursuant to paragraph (f)(3) of this section when the Administrator, Alaska Region, NMFS, determines that harvests from the previous year exceeded the GHL for that year by the corresponding percentage.

When annual harvests in the halibut guided recreational fishery exceed GHL by: | Harvests will be restricted in following years by implementation of a restriction that:
(1) Less than 10 percent | No guided recreational vessel may complete more than one fishing trip in a single 24-hour period.
(2) 10-15 percent | (i) No guided recreational vessel may complete more than one fishing trip in a single 24-hour period; (ii) No operator or crewmember aboard a guided recreational vessel may retain halibut.
(3) 16-20 percent | (i) No guided recreational vessel may complete more than one fishing trip in a single 24-hour period; (ii) No operator or crewmember aboard a guided recreational vessel may retain halibut; (iii) No person may retain more than seven halibut harvested on a guided recreational vessel during the calendar year.
(4) 1-30 percent | (i) No guided recreational vessel may complete more than one fishing trip in a single 24-hour period; (ii) No operator or crewmember aboard a guided recreational vessel may retain halibut; (iii) No person may retain more than six halibut harvested on a guided recreational vessel during the calendar year.
(5) 31-40 percent | (i) No guided recreational vessel may complete more than one fishing trip in a single 24-hour period; (ii) No operator or crewmember aboard a guided recreational vessel may retain halibut; (iii) No person may retain more than five halibut harvested on a guided recreational vessel during the calendar year.
(6) 41-50 percent | (i) No guided recreational vessel may complete more than one fishing trip in a single 24-hour period; (ii) No operator or crewmember aboard a guided recreational vessel may retain halibut; (iii) No person may retain more than four halibut harvested on a guided recreational vessel during the calendar year.
(7) More than 50 percent | (i) No guided recreational vessel may complete more than one fishing trip in a single 24-hour period; (ii) No operator or crewmember aboard a guided recreational vessel may retain halibut; (iii) No person may retain more than four halibut harvested on a guided recreational vessel during the calendar year; (iv) Between the dates of August 1 and August 31, no person may retain more than 1 halibut per day harvested aboard a guided recreational vessel.

(2) Area 3A. (i) GHL. The guideline harvest level for area 3A will be 3,650,000 lb (1,655.6 mt).

(ii) In years of low abundance of halibut stocks in area 3A, as determined by the Commission, the guideline harvest level will be reduced:

(A) By 15 percent when the halibut stock abundance falls at least 15 percent below its 1999-2000 average; and

(B) After the initial 15 percent reduction, by further 10 percent increments as stock abundance declines by additional 10 percent increments below its 1999-2000 average.

(C) Area 3A harvest reduction measures. The appropriate annual harvest reduction measures for area 3A, identified in the table below, will take effect pursuant to paragraph (f)(3) of this section when the Administrator, Alaska Region, NMFS, determines that harvests from the previous year exceeded the GHL for that year by the corresponding percentage.

When annual harvests in the halibut guided recreational fishery exceed GHL by: | Harvests will be restricted in following years by implementation of a restriction that:
(1) Less than 10 percent | No guided recreational vessel may complete more than one fishing trip in a single 24-hour period.
(2) 10-20 percent | (i) No guided recreational vessel may complete more than one fishing trip in a single 24-hour period; (ii) No operator or crewmember aboard a guided recreational vessel may retain halibut.
(3) 21-30 percent | (i) No guided recreational vessel may complete more than one fishing trip in a single 24-hour period; (ii) No operator or crewmember aboard a guided recreational vessel may retain halibut; (iii) No person may retain more than seven halibut harvested on a guided recreational vessel during the calendar year.
(4) 31-40 percent | (i) No guided recreational vessel may complete more than one fishing trip in a single 24-hour period; (ii) No operator or crewmember aboard a guided recreational vessel may retain halibut; (iii) No person may retain more than six halibut harvested on a guided recreational vessel during the calendar year.
(5) 41-50 percent | (i) No guided recreational vessel may complete more than one fishing trip in a single 24-hour period; (ii) No operator or crewmember aboard a guided recreational vessel may retain halibut; (iii) No person may retain more than five halibut harvested on a guided recreational vessel during the calendar year.
(6) More than 50 percent | (i) No guided recreational vessel may complete more than one fishing trip in a single 24-hour period; (ii) No operator or crewmember aboard a guided recreational vessel may retain halibut; (iii) No person may retain more than four halibut harvested on a guided recreational vessel during the calendar year; (iv) Between the dates of August 1 and August 31, no person may retain more than 1 halibut per day harvested aboard a guided recreational vessel.

(3) Implementation. (i) As soon as practicable after receiving data on annual harvests in the halibut guided recreational vessel fishery, the Administrator, Alaska Region, NMFS, will publish a notification in the Federal Register announcing the harvest reduction measures (if any) to be imposed for the succeeding year, pursuant to paragraphs (f)(1)(i)(C) and (f)(2)(ii)(C) of this section.

(ii) At the conclusion of a guided recreational halibut fishing season during which harvest reduction measures have been in effect, the North Pacific Fishery Management Council will review such measures to evaluate their efficacy in preventing further excess harvests and will recommend that NMFS adjust those measures as necessary to ensure that the following season’s harvest levels do not exceed the GHL.

4. In § 300.65, paragraph (c) is added to read as follows.

§ 300.65 Prohibitions.

* * * * *

(c) Any harvest reduction measure issued under § 300.63(f).

[FR Doc. 02-2005 Filed 1-25-02; 8:45 am]

BILLING CODE 3510-22-S